DEPARTMENT OF ENERGY

Commission on Fire Safety and Preparedness

AGENCY: Department of Energy.

ACTION: Notice of open meeting.

SUMMARY: This notice announces a meeting of the Commission on Fire Safety and Preparedness. The Federal Advisory Committee Act (Pub. L. No. 92-463, 86 Stat. 770), requires that public notice of the meetings be announced in the Federal Register.

DATES: Thursday, January 11, 2001, 9:00 am to 4:30 pm.

ADDRESSES: Department of Energy, 1000 Independence Avenue, SW., Washington, DC 20585.

FOR FURTHER INFORMATION CONTACT: Amina Khan, U.S. Department of Energy, 1000 Independence Avenue, SW., Washington, DC 20585, telephone number 202-586-6982, email: amina.khan@ns.doe.gov

SUPPLEMENTARY INFORMATION: Purpose of the Meeting:

To provide advice to the Department of Energy on the state of the fire safety and protection programs; to review the scope and results of a special internal investigation led by the Department on fire protection and safety; and to provide guidance, advice and information on the readiness of the complex from the threat of wildland and facility fires.

Tentative Agenda:

Welcome Remarks

Brief Overview of the Federal Advisory Committee Act

Debrief on the 60 Day Review

Status Quo of Fire Protection Programs at the Department of Energy

Office of Environment, Safety and Health Follow-on Study

Public Comment Period

Public Participation: The meeting is open to the public on a first-come, first-served basis because of limited seating. Written statements may be filed with the committee before of after the meeting. Members of the public who wish to make oral statements pertaining to agenda items should contact Amina Khan at the numbers above. Requests to make oral statements must be made and received five days prior to the meeting; reasonable provision will be made to include the statement in the agenda. The Chair of the Committee is empowered to conduct the meeting in a fashion that will facilitate the orderly conduct of business. This notice is being published less than 15 days before the date of the meeting due to the holidays.

Minutes: The minutes of this meeting will be available for public review and copying at the Freedom of Information Reading Room, 1E-190, Forrestal Building, 1000 Independence Avenue, SW., Washington, DC, between 9 am and 4 pm, Monday through Friday, except holidays.

Issued in Washington, DC on December 29, 2000.
Rachel M. Samuel,
Deputy Advisory Committee Management Officer.

[FR Doc. 01-244 Filed 1-3-01; 8:45 am]

BILLING CODE 6450-01-P